DEPARTMENT OF THE INTERIOR

Bureau of Land Management

[LLCO07000.L16100000.DQ0000.CO-03]

Meeting Notice: Southwest Resource Advisory Council; Canyons of the Ancients National Monument Subgroup

AGENCY: Bureau of Land Management, Interior.

ACTION: Notice.

SUMMARY: In accordance with the Federal Land Policy and Management Act (FLPMA) and the Federal Advisory Committee Act of 1972 (FACA), the U.S. Department of the Interior, Bureau of Land Management (BLM) Southwest Resource Advisory Council (RAC) Canyons of the Ancients National Monument (Monument) Subgroup, will meet as directed below.

DATES: The Southwest RAC Canyons of the Ancients National Monument (Monument) Subgroup will meet on August 14, 2009 at the Anasazi Heritage Center in Dolores, Colorado. The meeting will begin at 9 a.m. One public comment period is planned and will begin at approximately 10 a.m. The meeting will adjourn at approximately 12 p.m.

FOR FURTHER INFORMATION CONTACT: Heather Musclow, Planner, 970-882-5632, LouAnn Jacobson, Manager, 970-882-5600, or e-mail Heather_Musclow@blm.gov, or visit the monument Web site at http://www.co.blm.gov/canm/.

SUPPLEMENTARY INFORMATION: The ten member subgroup has provided recommendations to the Southwest Resource Advisory Council concerning development and implementation of a management plan developed in accordance with FLMPA, for public lands within the Monument. We plan to discuss comments received during public review of the Draft Resource Management Plan/Draft Environmental Impact Statement. An overview of the Proposed Resource Management Plan/Final Environmental Impact Statement will be presented.

The meeting will be open to the public and will include a time set aside for public comment. Interested persons may make oral statements at the meeting or submit written statements at any meeting. Per-person time limits for oral statements may be set to allow all interested persons an opportunity to speak.

Summary minutes of Committee and Subgroup meetings are maintained at the Anasazi Heritage Center in Dolores, Colorado. They are available for public inspection and reproduction during regular business hours within thirty (30) days of the meeting. In addition, minutes and other information concerning the Committee and Subgroup can be obtained from the Monument planning Web site at: http://www.blm.gov/rmp/canmwhich.

Barbara Sharrow,
Designated Federal Official, Colorado Southwest Resource Advisory Council.

[FR Doc. E9-17358 Filed 7-22-09; 8:45 am]

BILLING CODE 4310-JB-P